DEPARTMENT OF HEALTH AND HUMAN SERVICES

National Institutes of Health

Center for Scientific Review; Amended Notice of Meeting

Notice is hereby given of a change in the meeting of the Center for Scientific Review Special Emphasis Panel, October 18, 2013, 10:30 a.m. to October 18, 2013, 5:30 p.m., National Institutes of Health, 6701 Rockledge Drive, Bethesda, MD 20892 which was published in the Federal Register on September 25, 2013, 78 FR 186 pgs. 59040-59041.

The meeting will start on December 3, 2013 at 8:00 a.m. and end on December 3, 2013 at 5:00 PM. The meeting location remains the same. The meeting is closed to the public.

Dated: October 24, 2013.
Carolyn A. Baum,
Program Analyst, Office of Federal Advisory Committee Policy.

[FR Doc. 2013-25652 Filed 10-29-13; 8:45 am]

BILLING CODE 4140-01-P